Title 3—

The President

Proclamation 9689 of January 12, 2018

Martin Luther King, Jr., Federal Holiday, 2018

By the President of the United States of America

A Proclamation

The Reverend Dr. Martin Luther King, Jr., dedicated his life to a vision: that all Americans would live free from injustice and enjoy equal opportunity as children of God. His strong, peaceful, and lifelong crusade against segregation and discrimination brought our Nation closer to the founding ideals set forth in the Constitution and the Declaration of Independence. Today, as we come together to honor Dr. King, we know that America is stronger, more just, and more free because of his life and work.

This year marks the 50th anniversary of the death of Dr. King, who was tragically assassinated on April 4, 1968. As we approach this solemn milestone, we acknowledge our Nation's continuing debt to Dr. King's legacy. Dr. King advocated for the world we still demand—where the sacred rights of all Americans are protected, rural and urban communities are prosperous from coast to coast, and our limits and our opportunities are defined not by the color of our skin, but by the content of our character. We remember the immense promise of liberty that lies at the foundation of our great Republic, the responsibility it demands from all of us who claim its benefits, and the many sacrifices of those who have come before us.

Too often, however, we have neglected these ideals, and injustice has seeped into our politics and our society. Dr. King's peaceful crusade for justice and equality opened our Nation's eyes to the humbling truth that we were very far from fulfilling our obligation to the promises set forth by our forebearers.

The Reverend's devotion to fighting the injustice of segregation and discrimination ignited the American spirit of fraternity and reminded us of our higher purpose. Through his words and work, he compelled us to hold ourselves to standards of moral character and integrity that are worthy of our Nation and of our humanity.

Dr. King once said: “We refuse to believe there are insufficient funds in the great vaults of opportunity of this Nation.” We must work together to carry forward the American Dream, to ensure it is within reach not only for our children, but for future generations. As your President, I am committed to building and preserving a Nation where every American has opportunities to achieve a bright future. That is why we are expanding apprenticeship programs, preparing Americans for the jobs of our modernizing economy. We are also working every day to enhance access to capital and networks for minority and women entrepreneurs. With all we do, we aim to empower Americans to pursue their dreams.

Importantly, in paying tribute to Dr. King, we are reminded that the duty lies with each of us to fulfill the vision of his life's work. Let us use our time, talents, and resources to give back to our communities and help those less fortunate than us. Particularly today, let us not forget Dr. King's own tireless spirit and efforts, as we work, celebrate, and pray alongside people of all backgrounds. As one people, let us rediscover the bonds of love and loyalty that bring us together as Americans, and as people who share a common humanity.

NOW, THEREFORE, I, DONALD J. TRUMP, President of the United States of America, by virtue of the authority vested in me by the Constitution and the laws of the United States, do hereby proclaim January 15, 2018, as the Martin Luther King, Jr., Federal Holiday. I encourage all Americans to observe this day with appropriate civic, community, and service programs and activities in honor of Dr. King's life and legacy.

IN WITNESS WHEREOF, I have hereunto set my hand this twelfth day of January, in the year of our Lord two thousand eighteen, and of the Independence of the United States of America the two hundred and forty-second.

[FR Doc. 2018-01130

Filed 1-18-18; 11:15 am]

Billing code 3295-F8-P